NATIONAL SCIENCE FOUNDATION

Request for Feedback on the Interagency Arctic Research Policy Committee's Draft Principles for Conducting Research in the Arctic

AGENCY: National Science Foundation.

ACTION: Request for public comment on Principles for Conducting Research in the Arctic.

SUMMARY: The Interagency Arctic Research Policy Committee (IARPC), chaired by the National Science Foundation, is seeking comment from the public on newly revised Principles for Conducting Research in the Arctic.

Researchers working in the Arctic have a responsibility to conduct ethical research, to respect Arctic residents and cultures, and to advance stewardship of the Arctic environment. The revised document updates the Principles for the Conduct of Research in the Arctic (1990) and renames them Principles for Conducting Research in the Arctic, hereafter the Principles, to reflect current research disciplines and approaches in the Arctic. The draft revised Principles have been revised to provide guidelines for the equitable conduct of research, to better align with U.S. Arctic policy, to include changes in research methodologies, and to ensure the Principles are more effective and widely applied.

A U.S. IARPC Principles Revision Working Group prepared these draft revised Principles after conducting a comprehensive literature review and seeking and receiving diverse input from Alaska Natives, Federal and State and local agency representatives, and researchers by a variety of methods, including listening sessions at scientific conferences, through a Federal Register notice, and targeted interviews with Alaska residents and researchers. The Working Group seeks public comment on the draft revised Principles, which will be finalized after approval of the IARPC agencies.

DATES: Written comments must be submitted no later than September 4, 2018.

ADDRESSES: Email comments to iarpcprinciples@nsf.gov.

Address written submissions to Renee Crain, Office of Polar Programs, National Science Foundation, 2415 Eisenhower Avenue, Alexandria, VA 22314.

FOR FURTHER INFORMATION: For further information contact Renee Crain at 703-292-4482 or rcrain@nsf.gov.

SUPPLEMENTARY INFORMATION: All researchers working in the North have an ethical responsibility toward Arctic communities, their cultures, and the environment. The IARPC developed the Principles for the Conduct of Research in the Arctic to provide guidance for researchers in the physical, biological, behavioral, health, economic, political, and social sciences and in the humanities. The Social Science Task Force of the IARPC prepared the current Principles, with approval by the IARPC on June 28, 1990, and published by IARPC in volume 9, (Spring, 1995, pp. 56-57) of the journal “Arctic Research of the United States” (https://www.arctic.gov/publications/related/arotus.html).

In June 2017, the IARPC Staff Group formed the Principles Review Working Group to look into revising and updating the current Principles to reflect advances in theory and in practice of community engagement in Arctic research. The revised Principles, entitled “Principles for Conducting Research in the Arctic (2018)” aim to (a) establish five core principles for conducting responsible and ethical research in the Arctic, (b) identify ways to strengthen community-researcher engagement across all stages of research design, data collection, analysis, and reporting, and (c) promote wide implementation and practice of the revised Principles. The audience for the Principles includes academic, federal, state, local, and tribal researchers and all other entities conducting research in the Arctic. The revised Principles encourage mutual respect and communication between scientists and Arctic residents. These principles may be applied to any interactions in the Arctic, from interactions with Arctic residents while travelling or transacting with local businesses, to developing deeper, longer-lasting research collaborations. Adhering to the Principles for Conducting Research in the Arctic is recommended for any person pursuing research in the Arctic.

IARPC requests comments from the public on the revised Principles for Conducting Research in the Arctic (2018). IARPC is interested in all comments pertaining to the Principles and including the core principles that researchers are encouraged to adopt across all stages of research. The core Principles for Conducting Research in the Arctic are:

• Be Accountable

• Establish Effective Two-way Communication

• Respect Local Culture and Knowledge

• Build and Sustain Relationships

• Pursue Responsible Environmental Stewardship

Dated: June 29, 2018.
Suzanne H. Plimpton,
Reports Clearance Officer, National Science Foundation.

[FR Doc. 2018-14388 Filed 7-3-18; 8:45 am]

BILLING CODE 7555-01-P